DEPARTMENT OF AGRICULTURE

Forest Service

Notice of Lincoln County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Kootenai National Forests' Lincoln County Resource Advisory Committee will meet on April 14, 2004 at 6 p.m. in Troy, Montana for a business meeting. The meeting will be open to the public.

DATES: April 14, 2004.

ADDRESSES: The meeting will be held at the Troy Ranger Station, 1437 North U.S. Highway 2, Troy, Montana.

FOR FURTHER INFORMATION CONTACT: Barbara Edgmon, Committee Coordinator, Kootenai National Forest at (406) 293-6211, or e-mail bedgmon@fs.fed.us.

SUPPLEMENTARY INFORMATION: A field trip to the completed Plateau Fuel Reduction Project is planned for April 14, 2004 at 5 p.m. Meet at the Weigh Station at the intersection of U.S. Highway 2 and State Highway 56. The meeting agenda topics include presentation of the urban interface map, status of approved projects, and review of Libby Ranger district proposals. If the meeting is changed a notice will be posted in the local newspapers, including the Daily Interlake based in Kalispell, Montana.

Dated: March 29, 2004.
Bob Castaneda,
Forest Supervisor.

[FR Doc. 04-7773 Filed 4-5-04; 8:45 am]

BILLING CODE 3410-11-M